GENERAL SERVICES ADMINISTRATION

5 CFR Chapter VII

41 CFR Chapters 101, 102, and 105, and Subtitle F

48 CFR Chapters 5 and 61

[EO 013563-OGP-1; Docket 2011-0010; Sequence 1]

Reducing Regulatory Burden; Retrospective Review under E.O. 13563

AGENCY: Office of Governmentwide Policy, General Services Administration (GSA).

ACTION: Request for information.

SUMMARY: The General Services Administration (GSA) is requesting public input on how it can best implement the goals of Executive Order (EO) 13563, “Improving Regulation and Regulatory Review.” E.O. 132563 was signed by President Obama on January 18, 2011, calls for an improvement in the creation and review of regulations and the better opportunities for the public to be part of this process. GSA will solicit public input through April 15, 2011, via comments received on a blog located at http://www.gsa.gov/improvingregulations. Later this year, GSA expects to release its retrospective review plan.

DATES: Comments will be accepted through April 15, 2011.

FOR FURTHER INFORMATION CONTACT: For clarification of content, contact General Services Administration, Office of Governmentwide Policy, Office of Travel, Transportation and Asset Management, at (202) 501-1777.

SUPPLEMENTARY INFORMATION:

A. Background

Executive Order 13563 directs each federal agency to consider “how best to promote retrospective analysis of rules that may be outmoded, ineffective, insufficient, or excessively burdensome.” The EO calls on every agency to develop “a preliminary plan, consistent with law and its resources and regulatory priorities, under which the agency will periodically review its existing significant regulations to determine whether such regulations should be modified, streamlined, expanded or repealed to make the agency's regulatory program more effective and or less burdensome in achieving its regulatory objectives.”

B. Procedures

Comments on Executive Order 13563 can be posted on a blog located on the Internet at http://www.gsa.gov/improvingregulations. To view Executive Order 13563 got to http://www.gpo.gov/fdsys and enter “executive order 13563” in the search box.

Dated: March 17, 2011.
Janet Dobbs,
Director, Office of Travel, Transportation and Asset Management.

[FR Doc. 2011-6657 Filed 3-21-11; 8:45 am]

BILLING CODE 6820-14-P